DEPARTMENT OF COMMERCE

National Oceanic and Atmospheric Administration

RIN 0648-XC930

Gulf of Mexico Fishery Management Council; Public Meeting

AGENCY: National Marine Fisheries Service (NMFS), National Oceanic and Atmospheric Administration (NOAA), Commerce.

ACTION: Notice; public meeting.

SUMMARY: The Gulf of Mexico Fishery Management Council (Council) will hold a meeting of the Socioeconomic Scientific and Statistical Committee (SSC).

DATES: The meeting will be held from 9 a.m. Until 5 p.m. on Friday, November 8, 2013.

ADDRESSES: The meeting will be held at the Gulf of Mexico Fishery Management Council, 2203 North Lois Avenue, Suite 1100, Tampa, FL 33607.

FOR FURTHER INFORMATION CONTACT: Dr. Assane Diagne, Economist, Gulf of Mexico Fishery Management Council; telephone: (813) 348-1630; fax: (813) 348-1711; email: Assane.Diagne@gulfcouncil.org.

SUPPLEMENTARY INFORMATION: The items for discussion on the meeting agenda are as follows:

Socioeconomic SSC Agenda, Friday, November 8, 2013, 9 a.m. until 5 p.m.

1. Socio-economic evaluation of alternative red snapper allocations

2. Suggested Methods of Analysis

3. Recommendations to the Council

4. Other Business

For meeting materials, call (813) 348-1630.

Although other non-emergency issues not on the agenda may come before the Scientific and Statistical Committees for discussion, in accordance with the Magnuson-Stevens Fishery Conservation and Management Act, those issues may not be the subject of formal action during this meeting. Actions of the Scientific and Statistical Committees will be restricted to those issues specifically identified in the agenda and any issues arising after publication of this notice that require emergency action under section 305(c) of the Magnuson-Stevens Fishery Conservation and Management Act, provided the public has been notified of the Council's intent to take action to address the emergency.

This meeting is physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: October 22, 2013.
Tracey L. Thompson,
Acting Deputy Director, Office of Sustainable Fisheries, National Marine Fisheries Service.

[FR Doc. 2013-25159 Filed 10-24-13; 8:45 am]

BILLING CODE 3510-22-P